DEPARTMENT OF AGRICULTURE

Grain Inspection, Packers and Stockyards Administration

Opportunity for Designation in Specified Geographical Areas in Texas

AGENCY: Grain Inspection, Packers and Stockyards Administration, USDA.

ACTION: Notice.

SUMMARY: The Grain Inspection, Packers and Stockyards Administration (GIPSA) is asking persons or governmental agencies interested in providing official services in Texas to submit an application for designation. Applicants must specify the geographical area(s) and include the county (or counties) for which you are applying.

DATES: Applications must be received by August 13, 2015.

ADDRESSES: Submit applications concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Mail, Courier or Hand Delivery: Eric J. Jabs, Deputy Director, USDA, GIPSA, FGIS, QACD, 10383 North Ambassador Drive, Kansas City, MO 64153.

• Fax: Eric J. Jabs, 816-872-1257.

• Email: Eric.J.Jabs@usda.gov.

Read Applications: All applications will be available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79(f)). Under section 79(g) of the USGSA (7 U.S.C. 79(g)), designations of official agencies are effective for three years unless terminated by the Secretary, but may be renewed according to the criteria and procedures prescribed in section 79(f) of the USGSA.

Areas Open for Designation

Pursuant to Section 79(f)(2) of the United States Grain Standards Act, the following areas are available for designation.

Texas

Bounded on the North by the northern El Paso, Hudspeth, Culberson, Reeves, Loving, Winkler, Ector, Midland, Glasscock, Sterling, Coke, Runnels, Coleman, Brown, Eastland, Stephens, Young, Jack, Montague, Cooke, Grayson, Fannin, Lamar, Red River, Morris, and Marion county lines.

Bounded on the East by the eastern Red River, Morris, Marion, Harrison, Panola, Shelby, Sabrine, Newton, Orange, Jefferson, Chambers, Harris, Galveston, Brazoria, Matagorda, Jackson, Calhoun, Refugio, Aransas, San Patricio, Nueces, Kleberg, Kennedy, Willacy, and Cameron County lines.

Bounded on the South by the Texas State Line.

Bounded on the West by the western Cameron, Hidalgo, Starr, Zapata, Webb, Maverick, Kinney, Val Verde, Terrell, Brewster, Presidio, Jeff Davis, Hudspeth, and El Paso county lines.

Excludes export port locations serviced by GIPSA's League City Field Office, Beaumont Sub-office, and Corpus Christi Duty Point.

Opportunity for Designation

Interested persons or governmental agencies may apply for designation to provide official services in any or all of the geographic area(s) specified above under the provisions of section 79(f) of the USGSA and 7 CFR 800.196. Applications must include the county (or counties) for which you are applying. Designation in the specified geographic area(s) is for a period of no more than three years. To apply for designation or for more information, contact Eric Jabs at the address listed above or visit GIPSA's Web site at http://www.gipsa.usda.gov.

Authority: 7 U.S.C. 71-87k.

Larry Mitchell,
Administrator, Grain Inspection, Packers and Stockyards Administration.

[FR Doc. 2015-17210 Filed 7-13-15; 8:45 am]

BILLING CODE 3410-EN-P